ENVIRONMENTAL PROTECTION AGENCY

[EPA-HQ-OPP-2007-1019; FRL-8341-8]

Nicotine, 4-Aminopyridine, and Fenoxycarb; Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing this notice of receipt of requests by the registrants to voluntarily cancel their registrations of certain products containing the pesticides nicotine, 4-aminopyridine, and fenoxycarb. The requests from Bonide, Inc. would terminate nicotine use in or on lawns and outdoor ornamentals; this request would not cancel the last nicotine product registered for use in the United States. The requests from Avitrol Corporation would terminate 4-aminopyridine products formulated as powder; this request would not cancel the last 4-aminopyridine product registered for use in the United States. The requests from SC Johnson & Son, Inc. would terminate fenoxycarb use in indoor residential areas; this request would not cancel the last fenoxycarb product registered for use in the United States. The requests from Syngenta would terminate fenoxycarb use by residential handlers; this request would not cancel the last fenoxycarb product registered for use in the United States. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Comments must be received on or before January 22, 2008.

ADDRESSES: Submit your comments, identified by docket identification (ID) number EPA-HQ-OPP-2007-1019, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2007-1019. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Search for Dockets.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jill Bloom or Katie Weyrauch, Special Review and Reregistration Division (7508P), Office of Pesticide Programs, Environmental Protection Agency, 1200 Pennsylvania Ave., NW., Washington, DC 20460-0001. For information on the nicotine requests, please contact: Jill Bloom, telephone number: (703) 308-8019; e-mail address: bloom.jill@epa.gov. For information on the 4-aminopyridine and fenoxycarb requests, please contact: Katie Weyrauch, telephone number: (703) 308-0166; e-mail address: weyrauch.katie@epa.gov. The fax number for both contacts is (703) 308-7070.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel Registration

This notice announces receipt by EPA of requests from Bonide Products, Inc. to cancel two nicotine product registrations. Nicotine is derived from the tobacco plant and is used to kill insect pests of ornamental plants, and as part of a formulation used to repel dogs and rabbits from yard and garden areas. In separate letters dated September 18, 2007, Bonide requested that EPA cancel the two nicotine product registrations identified in this notice (see Table 1). Specifically, Bonide has made these requests in light of preliminary indications of toxicological and ecotoxicological concerns, coupled with a lack of applicable data and the likely requirement to fill these data gaps. Bonide has not produced the insecticide product (EPA registration # 4-340) for a number of years, and has not requested time for the sale of existing stocks. For the repellent product (EPA registration # 4-465), Bonide has requested a 24-month interval after the cancellation order is issued in which to sell existing stocks. This action on the registrant's requests will not terminate the last nicotine product registered in the United States; it will terminate the registration of the last nicotine products registered in the United States for use on and around lawns and outdoor ornamentals.

This notice also announces receipt by EPA of requests from Avitrol Corporation, to cancel five 4-aminopyridine product registrations. 4-aminopyridine is an avicide with flock-alarming properties. 4-aminopyridine products are used around structures and in feedlots for the control of pigeons, starlings, some species of grackles, sparrows, crows, and some species of blackbirds. In letters dated May 30, 2007, September 30, 2007, and October 5, 2007, Avitrol Corporation requested that EPA cancel affected product registrations identified in this notice (see Table 1). Specifically, Avitrol Corporation has made these requests in light of preliminary indications of toxicological and ecotoxicological concerns and the possibility of airborne transmission of the powders. The registrant has requested to be able to sell these 4-aminopyridine products through December 31, 2007. This action on the registrant's requests will terminate the last 4-aminopyridine products formulated as powders in the United States. In addition, this action on the registrant's requests will terminate the last 4-aminopyridine products registered in the United States for use on gulls; in grape vineyards in California; on sprouting crops in California; and on the Greater Antillean grackle in Puerto Rico.

This notice also announces receipt by EPA of requests from S.C. Johnson & Son, Inc. to cancel two fenoxycarb product registrations. Fenoxycarb is an O-ester carbamate derivative insecticide/miticide/insect growth regulator. Fenoxycarb is used on turf, non-bearing orchards, and on ornamentals to control insects, including fire ants. In a letter dated July 20, 2007, S.C. Johnson & Son, Inc. requested that EPA cancel affected product registrations identified in this notice (see Table 1). Specifically, S.C. Johnson & Son, Inc. has made this request because the fenoxycarb technical label no longer includes indoor residential uses of fenoxycarb. S.C. Johnson & Son, Inc. has not produced the insecticide products (EPA registrations #4822-292 and #4822-442) for a number of years, and has not requested time for the sale of existing stocks. This action on the registrant's request will terminate the last fenoxycarb end-use products registered in the United States with use in indoor residential settings.

This notice also announces receipt by EPA of requests from Syngenta to cancel four fenoxycarb product registrations. In a letter dated November 6, 2007, Syngenta requested that EPA cancel affected product registrations identified in this notice (see Table 1). Specifically, Syngenta has made this request because these registrations have not been produced for some time. Syngenta has not produced the insecticide products (EPA registrations # 100-725, # 100-746, # 100-750, and # 100-753) for a number of years, and has not requested time for the sale of existing stocks. This action on the registrant's requests will not terminate the last fenoxycarb product registered in the United States.

III. What Action is the Agency Taking?

This notice announces receipt by EPA of requests from registrants to cancel certain nicotine, 4-aminopyridine, and fenoxycarb product registrations. The affected products and the registrants making the requests are identified in Tables 1 and 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The nicotine and fenoxycarb products are not agricultural use products and are not subject to section 6(f)(1)(C) of FIFRA. EPA will provide a 30-day comment period on the proposed requests for the nicotine and fenoxycarb products. The 4-aminopyridine registrant has requested that EPA waive the 180-day comment period. EPA will provide a 30-day comment period on the proposed request.

Unless a request is withdrawn by the registrant within 30 days of publication of this notice, or if the Agency determines that there are substantive comments that warrant further review of this request, an order will be issued canceling the affected registrations.

Table 1.—Product Registrations with Pending Requests for Cancellation
Registration Number | Product Name | Company
4-340 | Bonide Tobacco Dust | Bonide Products, Inc.
4-465 | Bonide Rabbit & Dog Chaser | Bonide Products, Inc.
100-725 | Logic Fire Ant Killer | Syngenta Crop Protection, Inc.
100-746 | Fenoxycarb 1% Bait | Syngenta Crop Protection, Inc.
100-750 | Precision 25 WP | Syngenta Crop Protection, Inc.
100-753 | Fenoxycarb 25 WP | Syngenta Crop Protection, Inc.
11649-10 | Avitrol Concentrate | Avitrol Corporation
11649-11 | Avitrol Powder Mix | Avitrol Corporation
CA780131 | Avitrol Mixed Grains - Special Local Need | Avitrol Corporation
CA780132 | Avitrol Mixed Grains - Special Local Need | Avitrol Corporation
PR020001 | Avitrol Powder Mix - Special Local Need | Avitrol Corporation
4822-292 | Raid Flea Kill IV Plus | S.C. Johnson & Son, Inc.
4822-442 | Raid DOB | S.C. Johnson & Son, Inc.

Table 2 of this unit includes the names and addresses of record for the registrants of the products listed in Table 1 of this unit.

Table 2—Registrants Requesting Voluntary Cancellation
EPA Company Number | Company Name and Address
4 | Bonide Products, Inc. 6301 Sutliff Road Oriskany, NY 13424
100 | Syngenta Crop Protection, Inc. P.O. Box 18300 410 Swing Road Greensboro, NC 27419
11649 | Avitrol Corporation 7644 East 46th Street Tulsa, OK 74145
4822 | S.C. Johnson & Son, Inc. 1525 Howe Street Racine, WI 53403

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Requests

Registrants who choose to withdraw a request for cancellation must submit such withdrawal in writing to the person listed under FOR FURTHER INFORMATION CONTACT, postmarked before [30 days after date of publication in the Federal Register]. This written withdrawal of any request for cancellation will apply only to the applicable FIFRA section 6(f)(1) requests listed in this notice. If the products have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action.

In any order issued in response to these requests for amendments to terminate uses, the Agency proposes to include the following provisions for the treatment of any existing stocks of the products identified or referenced in Table 1 in Unit III:

For EPA registration # 4-340, no sale by the registrant of existing stocks. Bonide has not manufactured this product for 3-4 years and there are no stocks in its possession.

For EPA registration # 4-465, sale by the registrant of existing stocks will be allowed for a period of 24 months, counted from the date of the cancellation order associated with this notice.

For 4-aminopyridine products (EPA registrations # 11649-10, # 11649-11, # CA780131, # CA780132, and # PR020001), sale by the registrant of existing stocks will be permitted through December 31, 2007. From January 1, 2008 on, sale by the registrant of existing stocks will be prohibited.

For fenoxycarb products (EPA registrations # 100-725, # 100-746, # 100-750, # 100-753, # 4822-292, and # 4822-442), no sale by the registrant of existing stocks. Syngenta Crop Protection, Inc. has not manufactured their products for several years and there are no stocks in its possession. S.C. Johnson & Son, Inc. has not manufactured their products for several years and there are no stocks in its possession.

If the requests for voluntary cancellation are granted as discussed in this unit, the Agency intends to issue a cancellation order that will allow persons other than the registrant to continue to sell and/or use existing stocks of cancelled products until such stocks are exhausted, provided that such use is consistent with the terms of the previously approved labeling on, or that accompanied, the cancelled product. The order will specifically prohibit any use of existing stocks that is not consistent with such previously approved labeling. If, as the Agency currently intends, the final cancellation orders contain the existing stocks provisions just described, the order will be sent only to the affected registrants of the cancelled products. If the Agency determines that any of the final cancellation orders should contain existing stocks provisions different than the ones just described, the Agency will publish the cancellation order in the Federal Register.

List of Subjects

Environmental protection, Pesticides and pests.

Dated: December 13, 2007.
Peter Caulkins.
Acting Director, Special Review and Reregistration Division, Office of Pesticide Programs.

[FR Doc. E7-24903 Filed 12-20-07; 8:45 am]

BILLING CODE 6560-50-S